DEPARTMENT OF ENERGY

Federal Energy Regulatory Commission

[Docket No. CP05-25-000]

Seafarer U.S. Pipeline System, Inc.; Supplemental Notice of Preparation of an Environmental Impact Statement for the Proposed Seafarer U.S. Pipeline System Project and Request for Comments on Environmental Issues

December 13, 2004.

The staff of the Federal Energy Regulatory Commission (FERC or Commission) are preparing an environmental impact statement (EIS) that will discuss the environmental impacts of the Seafarer U.S. Pipeline System Project (project or Seafarer Project) proposed by Seafarer U.S. Pipeline System, Inc. (hereafter referred to as Seafarer).¹ The FERC will be the lead federal agency in the preparation of the EIS, but will prepare the EIS in coordination with its cooperating agencies: The Minerals Management Service, the U.S. Army Corps of Engineers, the National Oceanic and Atmospheric Administration-National Marine Fisheries Service, the U.S. Fish and Wildlife Service, and the U.S. Environmental Protection Agency. The document will satisfy the requirements of the National Environmental Policy Act.

¹ Seafarer's application was filed with the Commission in Docket No. CP05-25-000 on November 16, 2004, under seciton 7(c) of the Natural Gas Act and part 157 and part 284 of the FERC's regulations. Prior to that date, Seafarer began working with FERC staff under FERC's pre-filing environmental review process and started filing portions of its applicaiton under Docket No. PF04-8-000 on April 23, 2004. All documents filed under Docket No. PF04-8-000 are part of the record for Docket No. CP05-25-000.

This notice supplements the informational letter issued by the FERC on June 4, 2004, which announced FERC's initiation of a pre-filing environmental review for the Seafarer Project, and the Notice of Intent (NOI) to Prepare an EIS issued on June 30, 2004. Those previous transmittals provided information about the proposed project and the FERC's environmental review process and requested comments on the scope of issues to address in the EIS. The comment period for the NOI closed on August 16, 2004.

As initially proposed in the pre-filing documentation submitted to the FERC and described in the two previous transmittals issued by the FERC, the nearshore pipeline alignment would have included an initial landfall in the Town of Palm Beach Shores, on the southern end of Singer Island. From that point, the pipeline route would have crossed Peanut Island in route to a mainland landfall adjacent to the Florida Power & Light (FPL) Riviera Beach Power Plant. The Town of Palm Beach Shores and numerous commentors expressed concerns that the initially proposed alignment and landfall point could interfere with recreational use and residential and commercial land uses on Singer Island. Resource agencies consulted during the route selection and pre-filing process also expressed concerns that the initially proposed nearshore construction procedures, which included a series of horizontal directional drills (HDDs) and direct lay of the pipeline with rock cover, would not adequately avoid and minimize potential direct impacts to marine hardbottom and coral reef resources.

To address the comments and concerns identified during the pre-filing and EIS scoping periods, Seafarer developed a modified route alignment and nearshore installation methodology, which were identified in the application that Seafarer filed with the FERC on November 16, 2004. The currently proposed project alignment would avoid landfall on, and a pipeline route beneath, Singer and Peanut Islands (see Appendix 1). Additionally, Seafarer indicates that the currently proposed nearshore project installation methodology, which reflects the incorporation of tunnel construction methodology, would reduce potential direct impacts to marine hardbottom and coral reef resources, relative to the initially proposed construction methods. The majority of the proposed off- and onshore project route and aboveground facilities would not be affected by the modified proposal.

As currently proposed, a hydroshield tunnel boring machine (TBM) would be used to construct a watertight, approximately 3-mile-long, 10.5-foot-inner-diameter, concrete-lined tunnel. The tunnel would extend from an initial project landfall on FPL Riviera Beach Power Plant property (milepost [MP] 34.6) to an exit point approximately 1.4 miles offshore Singer Island in approximately 80 FSW (MP 31.6). Over 90 percent of the length of the tunnel would be constructed at depths greater than 40 feet beneath the seafloor. Once completed, the tunnel would provide a conduit for installation of the nearshore portion of the pipeline. Beyond the tunnel exit point, the pipeline would rest on the seafloor and rejoin the initially proposed project alignment. A tunnel reception pit would be excavated at the transition point between the tunnel and the direct lay portion of the pipeline, and would facilitate retrieval of the TBM, pipeline installation within the tunnel, and construction of an offshore mainline valve.

No onshore alignment changes would be required in association with the currently proposed modifications, except that required to connect the tunnel entry point with the previously proposed onshore alignment in the vicinity of the FPL Riviera Beach Power Plant. The pressure reduction facilities previously proposed for construction near the FPL power plant would be incorporated into the previously proposed FGT West Riviera Meter Station. A contractor yard comprising 10.2 acres would be sited on FPL Riviera Beach Power Plant property adjacent to the tunnel entry point to facilitate tunnel construction. This area would house tunnel support facilities and provide equipment and material storage. No other aboveground facilities or workspace areas would be affected by the currently proposed modifications.

We ² consider the modified nearshore project route and installation methodology as the proposed action, and will evaluate the potential environmental impacts of that action in our EIS. The environmental impacts associated with the initially proposed nearshore project alignment and installation methodology will be addressed as alternatives to the proposed action in our EIS.

² “We”, “us,” and “our” refer to the environmental staff of the Office of Energy Projects.

Public Participation

You can make a difference by providing us with your specific comments or concerns about the project. By becoming a commentor, your concerns will be addressed in the EIS and considered by the Commission. You should focus on the potential environmental effects of the proposal and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP05-25-000.

• Mail your comments so that they will be received in Washington, DC on or before January 20, 2005.

We will include all comments that we receive within a reasonable time frame in our environmental analysis of this project. To expedite our receipt and consideration of your comments, the Commission strongly encourages electronic submission of any comments on this project. See 18 CFR 385.2001(a)(1)(iii) and the instructions on the Commission's Web site at http://www.ferc.gov under the “e-Filing” link and the link to the User's Guide. Before you can file comments you will need to create a free account which can be created on-line.

In lieu of sending written comments, we invite you to attend the public scoping meeting we have scheduled as follows: Wednesday, January 19, 2005, 7 p.m. Seafarer U.S. Pipeline System Project, Town of Palm Beach Shores Town Hall, 247 Edwards Lane, Palm Beach Shores, FL 33404, telephone: (561) 844-3457.

The public scoping meeting is designed to provide another opportunity to offer comments on the proposed project. Interested groups and individuals are encouraged to attend the meeting and to present comments on the environmental issues they believe should be addressed in the EIS. A transcript of the meeting will be generated so that your comments will be accurately recorded.

Everyone who responds to this notice or submits comments throughout the EIS process will be retained on our mailing list. If you do not want to send comments at this time but still want to remain on our mailing list, please return the attached Information Request (see Appendix 2). If you do not return the Information Request, you will be removed from the project mailing list.

Becoming an Intervenor

In addition to involvement in the EIS scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214; see Appendix 3).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to affected landowners; Federal, State, and local government agencies; elected officials; environmental and public interest groups; Native American tribes; local libraries and newspapers; and other interested parties that expressed an interest in the project during the pre-filing and EIS scoping periods. We encourage government representatives to notify their constituents of this planned project and encourage them to comment on their areas of concern.

Additional Information

Additional information about the project is available from the Commission's Office of External Affairs, at 1-866-208-FERC or on the FERC Internet Web site (http://www.ferc.gov) using the eLibrary link. Click on the eLibrary link, click on “General Search” and enter the docket number excluding the last three digits (i.e., CP05-25) in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, Seafarer has established an Internet Web site for this project at http://www.seafarer.us/. The Web site includes a description of the project, a map of the proposed pipeline route, and answers to frequently asked questions. You can also request additional information or provide comments directly to Seafarer at (866) 683-5587.

Magalie R. Salas,
Secretary.

[FR Doc. E4-3722 Filed 12-17-04; 8:45 am]

BILLING CODE 6717-01-P